DEPARTMENT OF THE INTERIOR

National Park Service

[NPS-WASO-NAGPRA-27480; PPWOCRADN0-PCU00RP16.R50000]

Native American Graves Protection and Repatriation Review Committee; Notice of Public Meeting

AGENCY: National Park Service, Interior.

ACTION: Meeting notice.

SUMMARY: The National Park Service is hereby giving notice that the Native American Graves Protection and Repatriation Review Committee (Review Committee) will hold one meeting via teleconference. All meetings are open to the public.

DATES: The Review Committee will meet via teleconference on April 22, 2019, from 2:00 p.m. until approximately 4:00 p.m. (Eastern). Related deadlines for participating in the meeting are detailed in this notice.

FOR FURTHER INFORMATION CONTACT: Melanie O'Brien, Designated Federal Officer, National Native American Graves Protection and Repatriation Act Program (2253), National Park Service, telephone (202) 354-2201, or email nagpra_info@nps.gov.

SUPPLEMENTARY INFORMATION: The Review Committee was established in section 8 of the Native American Graves Protection and Repatriation Act of 1990 (NAGPRA).

Purpose of the Meeting: The agenda will include the discussion of the Review Committee Report to Congress. Information on joining the teleconference and the final agenda will be available on the National NAGPRA Program website at https://www.nps.gov/nagpra. The meeting is open to the public and there will be time for public comment.

General Information

Information about NAGPRA, the Review Committee, and Review Committee meetings is available on the National NAGPRA Program website at https://www.nps.gov/nagpra.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Public Disclosure of Comments: Before including your address, telephone number, email address, or other personal identifying information in your comments, you should be aware that your entire comment—including your personal identifying information—may be made publicly available at any time. While you can ask us in your comment to withhold your personal identifying information from public review, we cannot guarantee that we will be able to do so.

Authority: 5 U.S.C. Appendix 2; 25 U.S.C. 3006.

Alma Ripps,
Chief, Office of Policy.

[FR Doc. 2019-06646 Filed 4-4-19; 8:45 am]

BILLING CODE 4312-52-P